DEPARTMENT OF LABOR

Employment and Training Administration

[TA-W-72,524]

Norgren Automation Solutions, Including Workers Whose Unemployment Insurance (UI) Wages Are Paid Through Syron Engineering Erie Engineering and Automation Division, A Subsidiary of Norgren, Inc.: Clinton Township, MI; Amended Certification Regarding Eligibility To Apply for Worker Adjustment Assistance

In accordance with Section 223 of the Trade Act of 1974, as amended (“Act”), 19 U.S.C. 2273, the Department of Labor issued a Certification of Eligibility to Apply for Worker Adjustment Assistance on January 29, 2010, applicable to workers of Norgren Automation Solutions, Erie Engineering and Automation Division, a subsidiary of Norgren, Inc., Clinton Township, Michigan. The notice was published in the Federal Register on March 5, 2010 (75 FR 10320).

At the request of the state, the Department reviewed the certification for workers of the subject firm. The workers produced automation design and build components.

New information shows that in April 2009 Norgren Automation Solutions purchased Syron Engineering. Some workers separated from employment at the subject firm had their wages reported under a separated unemployment insurance (UI) tax account under the name Syron Engineering.

Accordingly, the Department is amending this certification to property reflect this matter.

The intent of the Department's certification is to include all workers of the subject firm who were adversely affected by an increase in imports of automation design and build components.

The amended notice applicable to TA-W-72,524 is hereby issued as follows:

All workers of Norgren Automation Solutions, including workers whose unemployment insurance (UI) wages are paid through Syron Engineering, Erie Engineering and Automation Division, a subsidiary of Norgren, Inc., Clinton Township, Michigan, who became totally or partially separated from who became totally or partially separated from employment on or after October 1, 2008, through January 29, 2012, and all workers in the group threatened with total or partial separation from employment on date of certification through two years from the date of certification, are eligible to apply for adjustment assistance under Chapter 2 of Title II of the Trade Act of 1974, as amended.

Signed at Washington, DC this 21st day of April 2010.
Elliott S. Kushner
Certifying Officer, Division of Trade Adjustment Assistance.

[FR Doc. 2010-9923 Filed 4-29-10; 8:45 am]

BILLING CODE 4510-FN-P